DEPARTMENT OF AGRICULTURE

Forest Service

West Virginia Resource Advisory Committee

AGENCY: Forest Service, USDA.

ACTION: Notice of meeting.

SUMMARY: The West Virginia Resource Advisory Committee will meet in Elkins, West Virginia. The committee is meeting as authorized under the one year extension of the Secure Rural Schools and Community Self-Determination Act (Pub. L. 110-343) and in compliance with the Federal Advisory Committee Act. The purpose is to recommend 2012 funding projects to the Deciding Federal Official.

DATES: The meetings will be held on September 17, 2012, and if necessary to complete business, also on September 21, 2012. Meetings will begin at 10:00 a.m.

ADDRESSES: The meetings will be held at the Monongahela National Forest Supervisor's Office, 200 Sycamore Street, Elkins, WV 26241. Written comments should be sent to Kate Goodrich-Arling at the same address. Comments may also be sent via email to kgoodricharling@fs.fed.us, or via facsimile to 304-637-0582.

All comments, including names and addresses when provided, are placed in the record and are available for public inspection and copying. The public may inspect comments received at Monongahela National Forest, 200 Sycamore Street, Elkins, WV 26241.

FOR FURTHER INFORMATION CONTACT: Kate Goodrich-Arling, RAC coordinator, USDA, Monongahela National Forest, 200 Sycamore Street, Elkins, WV 26241; (304) 636-1800; Email kgoodricharling@fs.fed.us.

Individuals who use telecommunication devices for the deaf (TDD) may call the Federal Information Relay Service (FIRS) at 1-800-877-8339 between 8 a.m. and 8 p.m., Eastern Standard Time, Monday through Friday.

SUPPLEMENTARY INFORMATION: All WV RAC meetings are open to the public. Persons who wish to bring related matters to the attention of the Committee may file written statements with the Committee staff before or after the meeting. Persons with special needs or to request a sign language interpreter, should contact Kate Goodric-Arling at the above number or addresses by September 10, 2012.

Dated: August 28, 2012.
DeVela J. Clark,
Deputy Forest Supervisor.

[FR Doc. 2012-21714 Filed 8-31-12; 8:45 am]

BILLING CODE 3410-11-P